DEPARTMENT OF HOMELAND SECURITY

U.S. Citizenship and Immigration Services

Agency Information Collection Activities: Extension of a Currently Approved Information Collection; Comment Request

Action: 30-day notice of information collection under review: application by refugee for waiver of ground of excludability; Form I-602.

The Office of Management and Budget (OMB) approval is being sought for the information collection listed below. This information collection was previously published in the Federal Register on May 16, 2005 at 70 FR 25843, allowed for a 60-day public comment period. The U.S. Citizenship and Immigration Services (USCIS) did not receive any comments from the public on this information collection.

The purpose of this notice is to allow an additional 30 days for public comments. Comments are encouraged and will be accepted until; August 19, 2005. This process is conducted in accordance with 5 CFR part 1320.10.

Written comments and suggestions from the public and affected agencies should address one or more of the following four points:

(1) Evaluate whether the collection of information is necessary for the proper performance of the function of the agency, including whether the information will have practical utility;

(2) Evaluate the accuracy of the agency's estimate of the burden of the collection of information, including the validity of the methodology and assumptions used;

Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Extension of currently approved information collection.

(2) Title of the Form/Collection: Application by Refugee for Waiver of Ground of Excludability.

Agency form number, if any, and the applicable component of the Department of Homeland Security sponsoring the collection: Form I-602. U.S. Citizenship and Immigration Services.

(4) Affected public who will be asked or required to respond, as well as a brief abstract: Primary: Individuals or Households. This form is used by the USCIS to determine eligibility for waiver.

(5) An estimate of the total number of respondents and the amount of time estimated for an average respondent to respond: 25,000 responses at 15 minutes (.25) per response.

(6) An estimate of the total public burden (in hours) associated with the collection: 625 annual burden hours.

If you have additional comments, suggestions, or need a copy of the information collection instrument, please contact Mr. Richard A. Sloan, Director, Regulatory Management Division, U.S. Citizenship and Immigration Services, 111 Massachusetts Avenue, NW., Washington, DC, 20529; 202-272-8377.

Dated: June 21, 2005.
Richard A. Sloan,
Regulatory Management Division, U.S. Citizenship and Immigration Services.

[FR Doc. 05-14128 Filed 7-18-05; 8:45 am]

BILLING CODE 4410-10-M